DEPARTMENT OF STATE

[Public Notice: 8989]

Notice of Meeting of the International Telecommunication Advisory Committee and Preparations for Upcoming International Telecommunications Meetings

This notice announces a meeting of the Department of State's International Telecommunication advisory Committee (ITAC) to review the activities of the Department of State in international meetings on international communications and information policy over the last quarter and prepare for similar activities in the next quarter. The ITAC will meet on January 22, 2015 at 2:00 p.m. EST at: 1300 I Street NW., (suite 400), Washington, DC, 20005 to provide an update on committee membership (see FR 2014-28411); review the preparations for and outcomes of international telecommunications meetings of the International Telecommunication Union (ITU), the Inter-American Telecommunications Commission, Organization for Economic Cooperation and Development, and Asia Pacific, and announce preparations for similar activities. In particular, preparations for the ITU Conference Preparatory Meeting (CPM) for the 2015 World Radiocommunication Conference will be highlighted.

Attendance at this meeting is open to the public as seating capacity allows. The public will have an opportunity to provide comments at this meeting at the invitation of the chair. Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by providing his or her name, email address, and the company, organization, or community that he or she is representing, if any. Persons wishing to request reasonable accommodation during the meeting should contact jacksonln@state.gov or gadsdensf@state.gov not later than January 15, 2015. Requests made after that time will be considered, but might not be able to be fulfilled.

FOR FURTHER INFORMATION CONTACT: Please contact Franz Zichy at 202-647-5778, zichyfj@state.gov.

Dated: December 23, 2014.
Julie N. Zoller,
Senior Deputy Coordinator, International Communications and Information Policy, U.S. State Department.

[FR Doc. 2014-30713 Filed 12-30-14; 8:45 am]

BILLING CODE 4710-07-P